DEPARTMENT OF TRANSPORTATION

Coast Guard

33 CFR Part 401

[USCG-2000-8569]

Great Lakes Pilotage Regulations

AGENCY: Coast Guard, DOT.

ACTION: Notice of meeting; request for comments.

SUMMARY: The Coast Guard's Office of Great Lakes Pilotage will hold a public meeting. This meeting is in response to the marine industry's request for a comprehensive review of the Great Lakes Pilotage System. The purpose of the meeting is to discuss options for improving the safety, reliability, and efficiency of the Great Lakes Pilotage System. We encourage interested parties to attend the meeting and submit comments for discussion during the meeting. We also seek written comments from any party who is unable to attend the meeting.

DATES: Public Meeting: We will hold the meeting on January 30, 2001, from 10 a.m. to 4 p.m.

Written Comments: The Docket Management Facility must receive your comments on or before January 22, 2001.

ADDRESSES: Public Meeting: We will hold the meeting in room B1, The Federal Building, 1240 East 9th Street, Cleveland, Ohio 44199.

Written Comments: Look in the first column of the table to select one of the four methods to send your comments. Then, use the address or fax number in the second column to submit your comments:

If you are using this method | Please use this address or fax number
(1) By mail | Docket Management Facility, (USCG-2000-8569), U.S. Department of Transportation, Room PL-401, 400 Seventh Street, SW., Washington, DC 20590-0001.
(2) In Person | Room PL-401. On the plaza level of the Nassif Building, 400 Seventh Street, SW., Washington, DC.
| • Hours: 9 a.m. to 5 p.m., Monday through Friday. Closed on Federal holidays.
| • Telephone number: 202-366-9329.
(3) Internet | http://dms.dot.gov.
(4) Fax | Docket Management Facility: 202-493-2251.

FOR FURTHER INFORMATION CONTACT: For information concerning this notice or the public meeting, contact Tom Lawler, Chief Economist, Office of Great Lakes Pilotage (G-MW), U.S. Coast Guard Headquarters, 2100 Second Street, SW., Washington, DC 20590, telephone 202-267-6164. For questions on viewing or submitting material to the docket contact Dorothy Beard, Chief, Dockets, Department of Transportation, telephone 202-366-9329.

SUPPLEMENTARY INFORMATION:

How Do I Participate in This Action?

The Coast Guard encourages you to participate by submitting comments and related material, and by attending the public meeting. If you submit written comments, please include—

• Your name and address;

• The docket number for this notice (USCG-2000-8569);

• The specific section of this notice to which each comment applies; and

• The reason for each comment.

You may mail, deliver, fax, or electronically submit your comments and attachments to the Docket Management Facility, using an address or fax number listed in the ADDRESSES section of this notice. Please do not submit the same comment or attachment by more than one method. If you mail or deliver your comments, they must be on 8½ by 11 inch paper and the quality of the copy should be clear enough for copying and scanning. If you mail your comments, and you would like to know if the Docket Management Facility received them, please enclose a stamped, self-addressed postcard or envelope. We will consider all comments and material received during the comment period.

How Can I Get Additional Information, Including Copies of This Notice or Other Related Documents?

The Docket Management Facility maintains the public docket for this notice. The docket number for this notice is USCG-2000-8569. Comments, and other documents related to this notice will become part of this docket and will be available for inspection or copying as follows:

• In person: You may access the docket in room PL-401, on the Plaza Level of the Nassif Building at the same address, between 9 a.m. and 5 p.m., Monday through Friday. The facility is closed on Federal holidays.

• Electronically: You may access the docket on the Internet at http://dms.dot.gov.

Where Can I Get Information on Service for Individuals With Disabilities?

To obtain information on facilities or services for individuals with disabilities or to request that we provide special assistance at the public meeting, please contact Mr. Tom Lawler as soon as possible. You will find his address and phone number in the FOR FURTHER INFORMATION CONTACT section of this notice.

Why Is the Coast Guard Holding This Public Meeting?

This meeting is in response to requests for a comprehensive review to improve the safety, reliability, and efficiency of the Great Lakes pilotage system. The requests came from all facets of the marine industry operating on the Great Lakes. We are holding the meeting to discuss ways to design a safer, more reliable and efficient pilotage system for the Great Lakes.

What Issues Should I Discuss at the Meeting or Address in Written Comments?

The public meeting on January 30, 2001 will provide a forum for members of the public to discuss ways to improve the safety, reliability and efficiency of the Great Lakes Pilotage System. You can discuss or comment on any ideas you have for improving the safety, reliability, and efficiency of the Great Lakes pilotage system. Interested parties are strongly encouraged to submit issues for discussion at the public meeting to the docket prior to January 22, 2001.

What Is the Agenda for the Public Meeting?

Agenda

The agenda for the meeting on January 30, 2001 is as follows:

• Session I—Introduction and Overview.

• Session II—Presentation and discussion of Concept Papers on centralized dispatch, centralized billing, and the possible advantages and disadvantages of combining the existing three pilotage Districts into one District or one Pilots' Association.

• Session III—Discussion of issues submitted to the docket.

Dated: December 21, 2000.
Joseph J. Angelo,
Acting Assistant Commandant for Marine Safety and Environmental Protection.

[FR Doc. 00-33077 Filed 12-27-00; 8:45 am]

BILLING CODE 4910-15-U